SECURITIES AND EXCHANGE COMMISSION

[Release No. 34-71181A; File No. SR-Topaz-2013-19]

Self-Regulatory Organizations; Topaz Exchange, LLC; Notice of Filing and Immediate Effectiveness of Proposed Rule Change To More Specifically Address the Number and Size of Contra-Parties to a Qualified Contingent Cross Order; Correction

December 24, 2013.

AGENCY: Securities and Exchange Commission.

ACTION: Notice; correction.

SUMMARY: The Securities and Exchange Commission published a document in the Federal Register of December 31, 2013 concerning a Notice of Filing and Immediate Effectiveness of Proposed Rule Change to More Specifically Address the Number and Size of Contra-parties to a Qualified Contingent Cross Order. The document was dated incorrectly.

FOR FURTHER INFORMATION CONTACT: Jennifer Colihan, Division of Trading and Markets, Securities and Exchange Commission, 100 F Street NE., Washington, DC 20549, (202) 551-5779.

Correction

In the Federal Register of December 31, 2013, in FR Doc. 2013-31227, on page 79718, in the 49th line of the third column, the date is corrected to read as noted above.

Kevin M. O'Neill,
Deputy Secretary.

[FR Doc. 2014-02561 Filed 2-5-14; 8:45 am]

BILLING CODE 8011-01-P